DEPARTMENT OF THE TREASURY

Submission for OMB Review; Comment Request

April 16, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before May 24, 2010 to be assured of consideration.

Internal Revenue Service (IRS)

OMB Number: 1545-0016.

Type of Review: Extension without change of a currently approved collection.

Title: United States Additional Estate Tax Return.

Form Number: 706-A.

Abstract: Form 706-A is used by individuals to compute and pay the additional estate taxes due under Code section 2032A(c). IRS uses the information to determine that the taxes have been properly computed. The form is also used for the basis election of section 1016(c)(1).

Respondents: Individuals or households.

Estimated Total Burden Hours: 1,678 hours.

OMB Number: 1545-0029.

Type of Review: Extension without change of a currently approved collection.

Title: Employer's Quarterly Federal Tax Return.

Form Numbers: 941, Schedules B, D, and R, 941-SS, 941-X, 941-V; 941-PR, Anexo B, 941-X (PR), 941-V (PR).

Abstract: Form 941 is used by employers to report payments made to employees subject to income and social security/Medicare taxes and the amounts of these taxes. Form 941-PR is used by employers in Puerto Rico to report social security and Medicare taxes only. Form 941-SS is used by employers in the U.S. possessions to report social security and Medicare taxes only. Schedule B is used by employers to record their employment tax liability.

Respondents: Private sector: Businesses or other for-profits.

Estimated Total Burden Hours: 318,884,262 hours.

OMB Number: 1545-2154.

Type of Review: Extension without change of a currently approved collection.

Title: Short Form Request for Individual Tax Return Transcript.

Form Number: 4506T-EZ, 4506T-EZ (SP).

Abstract: Form 4506T-EZ is used to request tax return transcripts. A taxpayer may designate a third party to receive the transcript.

Respondents: Individuals and households.

Estimated Total Burden Hours: 870,000 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-9394 Filed 4-22-10; 8:45 am]

BILLING CODE 4830-01-P